DEPARTMENT OF COMMERCE

National Oceanic and Atmospheric Administration

[I.D. 070904B]

New England Fishery Management Council; Public Meetings

AGENCY: National Marine Fisheries Service (NMFS), National Oceanic and Atmospheric Administration (NOAA), Commerce

ACTION: Notice of public meetings.

SUMMARY: The New England Fishery Management Council (Council) is scheduling public meetings of its Monkfish Advisory Panel and its Monkfish Committee in August, 2004 to consider actions affecting New England fisheries in the exclusive economic zone (EEZ). These groups will review public comment on the Draft Environmental Impact Statement (DSEIS) for Amendment 2 to the Monkfish Fishery Management Plan (FMP). The FMP is jointly managed by the Council and the Mid-Atlantic Fishery Management Council, and recommendations from these groups will be brought to the full Councils for formal consideration and action, if appropriate.

DATES: The meetings will be held on August 3, August 4 and August 13, 2004. See SUPPLEMENTARY INFORMATION for specific dates and times.

ADDRESSES: The meetings will be held in Danvers, MA and Baltimore, MD. See SUPPLEMENTARY INFORMATION for specific location.

Council address: New England Fishery Management Council, 50 Water Street, Mill 2, Newburyport, MA 01950.

FOR FURTHER INFORMATION CONTACT: Paul J. Howard, Executive Director, New England Fishery Management Council; telephone: (978) 465-0492.

SUPPLEMENTARY INFORMATION: Tuesday, August 3, 2004 at 9 a.m.—Monkfish Advisory Panel Meeting.

Location: Sheraton Ferncroft, 50 Ferncroft Road, Danvers, MA 01923; telephone: (978) 777-2500.

The Monkfish Advisory Panel will review public comment on the alternatives under consideration in the Amendment 2 DSEIS and make recommendations on preferred alternatives to the Monkfish Committee and Councils.

Wednesday, August 4, 2004 at 9 a.m.—Monkfish Committee Meeting.

Location: Sheraton Ferncroft, 50 Ferncroft Road, Danvers, MA 01923; telephone: (978) 777-2500.

The Monkfish Committee will review public comment on the alternatives under consideration in the Amendment 2 DSEIS and make recommendations on preferred alternatives to the Councils.

Friday, August 13, 2004 at 9 a.m.—Monkfish Committee Meeting.

Location: Wyndham Baltimore Inner Harbor Hotel, 101 West Fayette Street, Baltimore, MD 21201; telephone: (410) 752-1100.

The Monkfish Committee will review public comment on the alternatives under consideration in the Amendment 2 DSEIS and make recommendations on preferred alternatives to the Councils. NOTE: This meeting will only be held if the Committee does not finalize its recommendations at the August 4 meeting. The interested public is urged to monitor the New England Council website (www.nefmc.org) or contact the office to confirm the meeting is being held.

Although non-emergency issues not contained in this agenda may come before these groups for discussion, those issues may not be the subject of formal action during these meetings. Action will be restricted to those issues specifically listed in this notice and any issues arising after publication of this notice that require emergency action under section 305(c) of the Magnuson-Stevens Act, provided the public has been notified of the Council's intent to take final action to address the emergency.

Special Accommodations

These meetings are physically accessible to people with disabilities. Requests for sign language interpretation or other auxiliary aids should be directed to Paul J. Howard (see ADDRESSES) at least 5 days prior to the meeting dates.

Dated: July 9, 2004.
Alan D. Risenhoover,
Acting Director, Office of Sustainable Fisheries, National Marine Fisheries Service.

[FR Doc. E4-1568 Filed 7-14-04; 8:45 am]

BILLING CODE 3510-22-S